SMALL BUSINESS ADMINISTRATION

[Disaster Declaration #11336]

Vermont Disaster #VT-00008

AGENCY: U.S. Small Business Administration.

ACTION: Notice.

SUMMARY: This is a Notice of the Presidential declaration of a major disaster for Public Assistance Only for the State of Vermont (FEMA-1778-DR), dated 07/15/2008.

Incident: Severe Storms and Flooding.

Incident Period: 06/14/2008 through 06/17/2008.

EFFECTIVE DATE: 07/15/2008.

Physical Loan Application Deadline Date: 09/15/2008.

Economic Injury (EIDL) Loan Application Deadline Date: 04/15/2009.

ADDRESSES: Submit completed loan applications to : U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 07/15/2008, Private Non-Profit organizations that provide essential services of a governmental nature may file disaster loan applications at the address listed above or other locally announced locations.

The following areas have been determined to be adversely affected by the disaster:

Primary Counties: Addison, Franklin.

Contiguous Counties (Economic Injury Loans Only):

Vermont: Chittenden, Grand Isle, Lamoille, Orange, Orleans, Rutland, Washington, Windsor.

New York: Essex, Washington.

The Interest Rates are:

| Percent
Other (Including Non-Profit Organizations) With Credit Available Elsewhere | 5.250
Businesses and Non-Profit Organizations Without Credit Available Elsewhere | 4.000

The number assigned to this disaster for physical damage and economic injury is 11336

(Catalog of Federal Domestic Assistance Number 59008)

Herbert L. Mitchell,
Associate Administrator for Disaster Assistance.

[FR Doc. E8-17082 Filed 7-24-08; 8:45 am]

BILLING CODE 8025-01-P